DEPARTMENT OF ENERGY

Environmental Management Site-Specific Advisory Board Chairs Meeting

AGENCY: Department of Energy.

ACTION: Notice of open meeting.

SUMMARY: This notice announces a meeting of the Environmental Management Site-Specific Advisory Board (EM SSAB) Chairs. The Federal Advisory Committee Act (Pub. L. No. 92-463, 86 Stat. 770) requires that public notice of this meeting be announced in the Federal Register.

DATES: Wednesday, September 26, 2007 2 p.m.-4:30 p.m.; Thursday, September 27, 2007 8:30 a.m.-4:30 p.m.

ADDRESSES: Drury Inn, 3975 Hinkleville Road, Paducah, KY 42001, (270) 443-3313.

FOR FURTHER INFORMATION CONTACT: E. Douglas Frost, Designated Federal Officer, U.S. Department of Energy, 1000 Independence Avenue, SW., Washington, DC 20585, (202) 586-5619.

SUPPLEMENTARY INFORMATION: Purpose of the Board: The purpose of the EM SSAB is to make recommendations to DOE in the areas of environmental restoration, waste management, and related activities.

Tentative Agenda

Wednesday, September 26, 2007

2 p.m. Workshop on Communication, Cooperation and Public Participation.

4 p.m. Public Comment Period.

Thursday, September 27, 2007

8:30 a.m. Welcome/Introductions.

9 a.m. Round Robin: Top Three Issues.

10 a.m. Break.

10:15 a.m. EM Presentation: Assistant Secretary James A. Rispoli.

11:30 a.m. DOE-HQ “News and Views”.

12 p.m. Lunch.

1 p.m. Input to the EM Budget Process.

2:15 p.m. Break.

2:30 p.m. Discussion of Waste Disposition and Pre-1970 TRU.

3:30 p.m. EM SSAB Product Development Discussion.

4:15 p.m. Public Comment.

4:30 p.m. Wrap-Up/Adjourn.

Public Participation: The meeting is open to the public. Written statements may be filed either before or after the meeting with the Designate Federal Officer, E. Douglas Frost, at the address above or by phone at (202) 586-5619. Individuals who wish to make oral statements pertaining to agenda items should also contact E. Douglas Frost. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes of this meeting will be available by calling E. Douglas Frost at (202) 586-5619 and will be posted at http://web.em.doe.gov/public/ssab/chairs.html.

Issued at Washington, DC, on August 23, 2007.
Rachel M. Samuel,
Deputy Committee Management Officer.

[FR Doc. E7-17187 Filed 8-29-07; 8:45 am]

BILLING CODE 6450-01-P